DEPARTMENT OF AGRICULTURE

Food and Nutrition Service

7 CFR Parts 272, 273, 274, and 277

RIN 0584-AC40

Food Stamp Program: Noncitizen Eligibility and Certification Provisions of Pub. L. 104-193, as Amended by Public Laws 104-208, 105-33 and 105-185 (Announcement of Effective Date)

AGENCY: Food and Nutrition Service, USDA.

ACTION: Final rule; announcement of effective date.

SUMMARY: This document announces the effective date of the final rule published on November 21, 2000 at 65 FR 70133. That rule implemented several provisions of the Personal Responsibility and Work Opportunity Reconciliation Act of 1996 and subsequent amendments to these provisions made by the Omnibus Consolidated Appropriations Act of 1996, the Balanced Budget Act of 1997, and the Agricultural Research, Extension, and Education Reform Act of 1998. That rule finalized provisions related to application processing, aliens, matching activities, standardized deductions, proration, and the Simplified Food Stamp Program. Several amendments in that rule contained information collection requirements that required the approval of the Office of Management and Budget (OMB) before they could become effective. These information collection requirements were approved by OMB on September 10, 2001.

DATES: Effective Date: The amendments to §§ 273.2(c)(2)(i), 273.2(e)(1), 273.2(e)(2)(i), 273.2(e)(2)(ii), 273.2(e)(3), 273.4(c)(3)(iv), 273.12(c)(3) and 273.12(f)(4) published at 65 FR 70133 (November 21, 2001) are effective September 10, 2001.

Implementation Dates:

1. State agencies must implement the following amendments no later than March 11, 2002 for all households newly applying for Program benefits. State agencies must convert current caseloads no later than the next recertification following the implementation date: § 273.2(c)(2)(i), § 273.2(e)(1), § 273.2(e)(2)(i), § 273.2(e)(2)(ii), § 273.2(e)(3), § 273.4(c)(3)(iv); and § 273.12(c)(3).

2. State agencies may implement § 273.12(f)(4) at their discretion at any time on or after September 10, 2001.

ADDRESSES: Questions may be sent to Patrick Waldron, Branch Chief, Certification Policy Branch, Program Development Division, Food and Nutrition Service, U.S. Department of Agriculture, 3101 Park Center Drive, Alexandria, VA 22302.

FOR FURTHER INFORMATION CONTACT: Requests for additional information should be directed to Mr. Waldron at (703) 305-2495.

SUPPLEMENTARY INFORMATION:

Background

The final rule “Food Stamp Program: Noncitizen Eligibility, and Certification Provisions of Public Law 104-193, as Amended by Public Laws 104-208, 105-33, and 105-185,” provided that several amendments would not be effective until Office of Management and Budget (OMB) approval of an associated information collection burden. That rule further provided that the Food and Nutrition Service would publish a document in the Federal Register announcing the effective date of these amendments after approval of the information collection requirements by OMB. On September 10, 2001, OMB approved the associated information collection burden for these items under OMB control number 0584-0064. This approval will expire on September 30, 2004.

Dated: November 21, 2001.
George A. Braley,
Acting Administrator, Food and Nutrition Service.

[FR Doc. 01-29563 Filed 11-27-01; 8:45 am]

BILLING CODE 3410-30-U